DEPARTMENT OF COMMERCE

Foreign-Trade Zones Board

[Order No. 1901]

Reorganization of Foreign-Trade Zone 139 Under Alternative Site Framework Sierra Vista, Arizona

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Sierra Vista Economic Development Foundation, Inc., grantee of Foreign-Trade Zone 139, submitted an application to the Board (FTZ Docket B-43-2012, docketed 06/05/2012) for authority to reorganize under the ASF with a service area which includes a portion of Cochise County, Arizona, as described in the amended application, in and adjacent to the Naco, Arizona U.S Customs and Border Protection port of entry, and FTZ 139's existing Site 1 would be categorized as a magnet site;

Whereas, notice inviting public comment was given in the Federal Register (77 FR 34935-34936, 06/12/2012) and the application has been processed pursuant to the FTZ Act and the Board's regulations; and,

Whereas, the Board adopts the findings and recommendations of the examiner's report, and finds that the requirements of the FTZ Act and the Board's regulations are satisfied;

Now, therefore, the Board hereby orders:

The application to reorganize FTZ 139 under the ASF is approved, subject to the FTZ Act and the Board's regulations, including Section 400.13, to the Board's standard 2,000-acre activation limit for the zone, and to a five-year ASF sunset provision for magnet sites that would terminate authority for Site 1 if not activated by May 31, 2018.

Signed at Washington, DC, this 23rd day of May 2013.
Paul Piquado,
Assistant Secretary of Commerce for Import Administration, Alternate Chairman, Foreign-Trade Zones Board.
Attest:
Andrew McGilvray,
Executive Secretary.

[FR Doc. 2013-13251 Filed 6-3-13; 8:45 am]

BILLING CODE 3510-DS-P